DEPARTMENT OF THE INTERIOR

Bureau of Reclamation

[RR04093000, XXXR4081X3, RX.05940913.FY19400]

Public Meeting of the Glen Canyon Dam Adaptive Management Work Group

AGENCY: Bureau of Reclamation, Interior.

ACTION: Notice of public meeting.

SUMMARY: In accordance with the Federal Advisory Committee Act of 1972, the Bureau of Reclamation (Reclamation) is publishing this notice to announce a public meeting of the Glen Canyon Dam Adaptive Management Work Group (AMWG).

DATES: The meeting will be held on Wednesday, May 20, 2020, via WebEx/conference call beginning at 9:00 a.m. (MDT) and concluding four (4) hours later.

ADDRESSES: WebEx can be accessed at: https://bor.webex.com/bor/j.php?MTID=m9591cce1cb6d4253916c127b92a5cc4b.

FOR FURTHER INFORMATION CONTACT: Ms. Lee Traynham, Bureau of Reclamation, 125 South State Street, Room 8100, Salt Lake City, Utah 84138; telephone (801) 524-3752; email at ltraynham@usbr.gov; facsimile (801) 524-5499.

SUPPLEMENTARY INFORMATION: The Glen Canyon Dam Adaptive Management Program (GCDAMP) was implemented as a result of the Record of Decision on the Operation of Glen Canyon Dam Final Environmental Impact Statement to comply with consultation requirements of the Grand Canyon Protection Act (Pub. L. 102-575) of 1992. The AMWG makes recommendations to the Secretary of the Interior concerning Glen Canyon Dam operations and other management actions to protect resources downstream of Glen Canyon Dam, consistent with the Grand Canyon Protection Act.

Agenda: The AMWG will meet to receive updates on: (1) GCDAMP budget and workplan for fiscal year 2020 and beyond; (2) planned or ongoing experiments in 2020; and (3) current basin hydrology and reservoir operations. The AMWG will also discuss other administrative and resource issues pertaining to the GCDAMP. To view a copy of the agenda and documents related to the above meeting, please visit Reclamation's website at https://www.usbr.gov/uc/progact/amp/amwg.html.

Meeting Accessibility/Special Accommodations: The meeting is open to the public. Individuals requiring special accommodations to access the public meeting should contact Ms. Lee Traynham (see FOR FURTHER INFORMATION CONTACT) at least (5) business days prior to the meeting so appropriate arrangements can be made. To participate in the WebEx/conference call, please use the instructions below.

WebEx Information:

1. Go to: https://bor.webex.com/bor/j.php?MTID=m9591cce1cb6d4253916c127b92a5cc4b.

2. If requested, enter your name and email address.

3. If a password is required, enter the meeting password: AMWG.

4. Click “Join Now”.

Audio Conference Information:

• Phone Number: (415) 527-5035.

• Access code: 909 402 582.

Public Disclosure of Comments: Time will be allowed for any individual or organization wishing to make formal oral comments. To allow for full consideration of information by the AMWG members, written notice must be provided to Ms. Lee Traynham (see FOR FURTHER INFORMATION CONTACT) at least five (5) business days prior to the meeting. Any written comments received will be provided to the AMWG members.

Before including your address, phone number, email address, or other personal identifying information in your comment, you should be aware that your entire comment—including your personal identifying information—may be made publicly available at any time. While you can ask us in your comment to withhold your personal identifying information from public review, we cannot guarantee that we will be able to do so.

Lee Traynham,
Chief, Adaptive Management Work Group Resources Management Division, Upper Colorado Basin—Interior Region 7.

[FR Doc. 2020-08557 Filed 4-22-20; 8:45 am]

BILLING CODE 4332-90-P